DEPARTMENT OF COMMERCE

Foreign-Trade Zones Board

[Order No. 1107]

Grant of Authority for Subzone Status, SMC Pneumatics, Inc. (Pneumatic Automation Components); Indianapolis, IN

Pursuant to its authority under the Foreign-Trade Zones Act, of June 18, 1934, as amended (19 U.S.C. 81a-81u), the Foreign-Trade Zones Board (the Board) adopts the following Order:

Whereas, the Foreign-Trade Zones Act provides for “ * * * the establishment * * * of foreign-trade zones in ports of entry of the United States, to expedite and encourage foreign commerce, and for other purposes,” and authorizes the Foreign-Trade Zones Board to grant to qualified corporations the privilege of establishing foreign-trade zones in or adjacent to U.S. Customs ports of entry;

Whereas, the Board's regulations (15 CFR Part 400) provide for the establishment of special-purpose subzones when existing zone facilities cannot serve the specific use involved, and when the activity results in a significant public benefit and is in the public interest;

Whereas, the Indianapolis Airport Authority, grantee of Foreign-Trade Zone 72, has made application to the Board for authority to establish special-purpose subzone at the pneumatic automation components manufacturing and warehousing facilities of SMC Pneumatics, Inc., located in Indianapolis, Indiana (FTZ Docket 38-99, filed 7/16/99);

Whereas, notice inviting public comment was given in the Federal Register (64 FR 41375, 7/30/99); and,

Whereas, the Board adopts the findings and recommendations of the examiner's report, and finds that the requirements of the FTZ Act and the Board's regulations would be satisfied, and that approval of the application would be in the public interest provided approval is subject to restriction;

Now, Therefore, the Board hereby grants authority for subzone status at the pneumatic automation components manufacturing and warehousing facilities of SMC Pneumatics, Inc., located in Indianapolis, Indiana (Subzone 72P), at the location described in the application, and subject to the FTZ Act and the Board's regulations, including § 400.28, and further subject to a restriction requiring that all foreign merchandise admitted to the subzone be placed in privileged foreign status.

Signed at Washington, DC, this 21st day of June 1999.
Troy H. Cribb,
Acting Assistant Secretary of Commerce for Import Administration, Alternate Chairman, Foreign-Trade Zones Board.
Pierre V. Duy,
Acting Executive Secretary.

[FR Doc. 00-16378 Filed 6-27-00; 8:45 am]

BILLING CODE 3510-DS-P